DEPARTMENT OF COMMERCE

National Oceanic and Atmospheric Administration

RIN 0648-XE513

Mid-Atlantic Fishery Management Council (MAFMC); Public Meetings

AGENCY: National Marine Fisheries Service (NMFS), National Oceanic and Atmospheric Administration (NOAA), Commerce.

ACTION: Notice of a public meeting.

SUMMARY: The Mid-Atlantic Fishery Management Council's (Council) Atlantic Mackerel, Squid, and Butterfish Advisory Panel and the Council's River Herring and Shad Advisory Panel will hold a public meeting.

DATES: The meeting will be held Wednesday, April 6, 2016, from 1:30 p.m. until 4:30 p.m.

ADDRESSES: The meeting will be held via webinar with a telephone-only connection option.

Council address: Mid-Atlantic Fishery Management Council, 800 N. State St., Suite 201, Dover, DE 19901; telephone: (302) 674-2331.

FOR FURTHER INFORMATION CONTACT: Christopher M. Moore, Ph.D. Executive Director, Mid-Atlantic Fishery Management Council; telephone: (302) 526-5255. The Council's Web site, www.mafmc.org also has details on the proposed agenda, webinar access, and briefing materials.

SUPPLEMENTARY INFORMATION: This meeting will gather input on the Industry-Funded Monitoring Omnibus Amendment, especially the options for additional coverage for the Atlantic mackerel fishery. The Council plans to approve preliminary preferred alternatives at its April 2016 meeting, followed by public hearings in May 2016, and final action in June 2016. See http://www.mafmc.org/actions/observer-funding-omnibus for details on the Amendment.

Although non-emergency issues not contained in this agenda may come before this group for discussion, in accordance with the Magnuson-Stevens Fishery Conservation and Management Act (Magnuson-Stevens Act), those issues may not be the subject of formal action during these meetings.

Special Accommodations

The meeting is physically accessible to people with disabilities. Requests for sign language interpretation or other auxiliary aid should be directed to M. Jan Saunders, (302) 526-5251, at least 5 days prior to the meeting date.

Dated: March 16, 2016.
Tracey L. Thompson,
Acting Deputy Director, Office of Sustainable Fisheries, National Marine Fisheries Service.

[FR Doc. 2016-06281 Filed 3-18-16; 8:45 am]

BILLING CODE 3510-22-P